DEPARTMENT OF TRANSPORTATION

Federal Railroad Administration

[Docket No. FRA-2005-23281, Notice No. 5]

Safety of Private Highway-Rail Grade Crossings; Notice of Safety Inquiry

AGENCY: Federal Railroad Administration (FRA), Department of Transportation (DOT).

ACTION: Notice of open meeting date change.

SUMMARY: On July 27, 2006, FRA published a notice announcing its intent to conduct a series of open meetings throughout the United States, in cooperation with appropriate State agencies, to consider issues related to the safety of private highway-rail grade crossings. FRA has conducted four meetings to date and on March 17, 2007, FRA published a notice announcing the scheduling of an additional meeting to be held April 26, 2007, in Syracuse, New York. Due to recently developed scheduling conflicts, however, it is necessary to postpone this April 26 meeting. This Notice No. 5 is an announcement that the Syracuse, New York, meeting has been rescheduled for July 26, 2007. FRA regrets any inconvenience this date change may have caused.

At the meeting, FRA intends to solicit oral statements from private crossing owners, railroads, and other interested parties on issues related to the safety of private highway-rail grade crossings, which will include, but not be limited to, current practices concerning the responsibility for safety at private grade crossings, the adequacy of warning devices at private crossings, and the relative merits of a more uniform approach to improving safety at private crossings. FRA has also opened a public docket on these issues so that interested parties may submit written comments for public review and consideration.

DATES: The fifth public meeting will be held in Syracuse, New York on July 26, 2007, at the Renaissance Syracuse Hotel, 701 East Genesee Street, Syracuse, New York 13210, beginning at 9:30 a.m.

Persons wishing to participate are requested to provide their names, organizational affiliation, and contact information to Michelle Silva, FRA Docket Clerk, 1120 Vermont Avenue NW., Washington, DC 20590 (telephone: 202-493-6030). Persons needing sign language interpretation or other reasonable accommodation for disability are also encouraged to contact Ms. Silva using the aforementioned information.

FOR FURTHER INFORMATION CONTACT: Ron Ries, FRA Office of Safety, 1120 Vermont Avenue NW., Washington, DC 20590 (telephone: 202-493-6299); Miriam Kloeppel, FRA Office of Safety, 1120 Vermont Avenue NW., Washington, DC 20590 (telephone: 202-493-6299); or Kathryn Shelton, FRA Office of Chief Counsel, 1120 Vermont Avenue NW, Washington, DC 20590 (telephone: 202-493-6038).

SUPPLEMENTARY INFORMATION: For additional information, please see the initial notice published July 27, 2006, in the Federal Register (71 FR 42713) and available at http://a257.g.akamaitech.net/7/257/2422/01jan20061800/edocket.access.gpo.gov/2006/pdf/06-6501.pdf

Request for Comments

While FRA solicits discussion and comments on all areas of safety at private highway-rail grade crossings, we particularly encourage comments on the following topics:

• At-grade highway-rail crossings present inherent risks to users, including the railroad and its employees, and to other persons in the vicinity should a train derail into an occupied area or release hazardous materials. When passenger trains are involved, the risks are heightened. From the standpoint of public policy, how do we determine whether the creation or continuation of a private crossing is justified?

• Is the current assignment of responsibility for safety at private crossings effective? To what extent do risk management practices associated with insurance arrangements result in the “regulation” of safety at private crossings?

• How should improvement and/or maintenance costs associated with private crossings be allocated?

• Is there a need for alternative dispute resolution mechanisms to handle disputes that may arise between private crossing owners and the railroads?

• Should the State or Federal Government assume greater responsibility for safety at private crossings?

• Should there be nationwide standards for warning devices at private crossings, or for intersection design of new private grade crossings?

• How do we determine when a private crossing has a “public purpose” and is subject to public use?

• Should some crossings be categorized as “commercial crossings,” rather than as “private crossings?”

• Are there innovative traffic control treatments that could improve safety at private crossings on major rail corridors, including those on which passenger service is provided?

• Should DOT request enactment of legislation to address private crossings? If so, what should it include?

Issued in Washington, DC, on April 9, 2007.
Jo Strang,
Associate Administrator for Safety.

[FR Doc. E7-7064 Filed 4-12-07; 8:45 am]

BILLING CODE 4910-06-P